DEPARTMENT OF TRANSPORTATION

Federal Aviation Administration

14 CFR Part 71

[Airspace Docket No. 02-AGL-12]

Modification of Class E Airspace; Zanesville, OH

AGENCY: Federal Aviation Administration (FAA), DOT.

ACTION: Final rule.

SUMMARY: This action modifies Class E airspace at Zanesville, OH. A Global Positioning System (GPS) Standard Instrument Approach Procedure (SIAP) 160° helicopter point in space approach, has been developed for Bethesda Hospital, Zanesville, OH. Controlled airspace extending upward from 700 feet or more above the surface of the earth is needed to contain aircraft executing this approach. This action increased the radius of the existing controlled airspace for Zanesville Municipal Airport.

EFFECTIVE DATE: 0901 UTC, November 28, 2002.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

On Thursday, June 13, 2002, the FAA proposed to amend 14 CFR part 71 to modify Class E airspace at Zanesville, OH (67 FR 40627). The proposal was to modify existing Class E airspace at Zanesville Municipal Airport, OH, in order to protect for a point in space approach used by helicopters involved in medical emergencies. Interested parties were invited to participate in this rulemaking proceeding by submitting written comments on the proposal to the FAA. No comments were received, however the NPRM contained responses to earlier concerns raised in a Direct Final Rule. A total of Eight (8) comments were received in response to that rule and were considered adverse, thereby requiring the rule to be withdrawn. The objections centered around issues at Parr Airport and contained the following concerns:

1. Safety concern over IFR helicopter operations. One (1) respondent stated he was concerned about inserting occasional helicopters into a busy G.A. environment.

2. Increased restrictions on the ability to fly during periods of low visibility. Four (4) respondents stated they would have less opportunity to fly or train during marginal weather conditions because of the higher visibility requirements associated with Class E airspace.

3. Impact to local flight school. Three (3) respondents stated business would be lost because of the inability to conduct VFR training during periods of low visibility. All of these comments were considered and evaluated. They were responded to as follows:

1. Class E airspace is designed to protect aircraft executing instrument approach procedures. The higher visibility requirements for VFR flight in Class E airspace allows for a safer operating environment for IFR aircraft.

2. While not as many aircraft may operate at the same time when visibility is restricted, a special VFR clearance may be obtained, thus allowing for continued flight or training during these periods. Additionally, creating a Class E airspace corridor, or an exclusion for Parr Airport, which was suggested, would not fit design criteria, or provide adequate protection for the approach.

3. Other than having to conduct training under higher visibility requirements (unless a special VFR clearance is requested), the economic impact to the flight school is undefined and beyond the scope of this airspace action.

Class E airspace areas extending upward from 700 feet or more above the surface of the earth are published in paragraph 6005 of FAA Order 7400.9J dated August 31, 2001, and effective September 16, 2001, which is incorporated by reference in 14 CFR 71.1. The Class E designations listed in this document would be published subsequently in the Order.

The Rule

This amendment to 14 CFR part 71 modifies Class E airspace at Zanesville, OH, for Zanesville Municipal Airport. Controlled airspace extending upward from 700 feet or more above the surface of the earth is needed to contain aircraft executing instrument approach procedures. The area will be depicted on appropriate aeronautical charts.

The FAA has determined that this regulation only involves an establishment body of technical regulation for which frequent and routine amendments are necessary to keep them operationally current. Therefore this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporated by reference, Navigation (air).

Adoption of the Amendment

Accordingly, pursuant to the authority delegated to me, the Federal Aviation Administration amends 14 CFR part 71 as follows:

PART 71—DESIGNATION OF CLASS A, CLASS B, CLASS C, CLASS D, AND CLASS E AIRSPACE AREAS; AIRWAYS; ROUTES, AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9J, Airspace Designations and Reporting Points, dated August 31, 2001, and effective September 16, 2001, is amended as follows:

* * * * *

Paragraph 6005 Class E airspace areas extending upward from 700 feet or more above the surface of the earth.

* * * * *

AGL OH E5 Zanesville, OH [Revised]

Zanesville Municipal Airport, OH (Lat. 39° 56′ 40″N., long. 81° 53′ 32″W.)

Zanesville VOR/DME (Lat. 39° 56′ 27″N., long. 81° 53′ 33″W.)

Zanesville, Bethesda Hospital, OH

Point in Space Coordinates (Lat. 39° 59′ 5″N., long. 82° 1′ 30″W.)

That airspace extending upward from 700 feet above the surface within a 6.5-mile radius of the Zanesville Municipal Airport and within 7 miles east and 4.4 miles west of the Zanesville VOR/DME 220° radial extending from the VOR/DME to 10.5 miles southwest of the VOR/DME, and within 2.4 miles either side of the Zanesville VOR/DME 028° radial extending from the 6.5-mile radius to 7 miles northeast of the VOR/DME, and within a 6-mile radius of the Point in Space serving the Bethesda Hospital.

* * * * *

Issued in Des Plaines, Illinois on September 4, 2002.
Nancy B. Shelton,
Manager, Air Traffic Division, Great Lakes Region.

[FR Doc. 02-23832 Filed 9-18-02; 8:45 am]

BILLING CODE 4910-13-M